DEPARTMENT OF DEFENSE

Department of the Navy

Meeting of the Chief of Naval Operations (CNO) Executive Panel; Correction

AGENCY: Department of the Navy, DOD.

ACTION: Notice of Closed Meeting; correction.

SUMMARY: The Department of the Navy published a document in the Federal Register of March 15, 2006, announcing a closed meeting of the CNO Executive Panel. The document contained incorrect date and time.

FOR FURTHER INFORMATION CONTACT: Lieutenant Commander Christopher Stopyra, CNO Executive Panel, 4825 Mark Center Drive, Alexandria, VA 22311, 703-681-6207.

Correction

In the Federal Register of March 15, 2006, in FR Doc. E6-3638, in the first column, on page 13361, correct the DATES caption to read:

DATES: The meeting will be held on Friday, April 14, 2006, from 9 a.m. to 10 a.m.

Dated: March 28, 2006.
Eric McDonald,
Lieutenant Commander, Judge Advocate General's Corps, U.S. Navy, Federal Register Liaison Officer.

[FR Doc. 06-3356 Filed 4-6-06; 8:45 am]

BILLING CODE 3810-FF-M